DEPARTMENT OF TRANSPORTATION

National Highway Traffic Safety Administration

[Docket No. NHTSA—2014-0014]

2014-2018 Strategic Plan

AGENCY: National Highway Traffic Safety Administration (NHTSA), Department of Transportation (DOT).

ACTION: Notice of public listening session and request for comment.

SUMMARY: The National Highway Traffic Safety Administration (NHTSA) is currently finalizing its 2014-2018 strategic plan, and announces that it will hold a public listening session to solicit public comment on emerging or potential traffic safety problems and solutions. Public feedback will assist the agency in preparing to meet the challenges it faces in the next 5 years on improving motor vehicle and traffic safety in the United States. This notice invites comments, suggestions and recommendations from all individuals and organizations that have an interest in motor vehicle and highway safety, consumer programs (e.g., fuel economy, vehicle theft, odometer fraud, tire performance) administered by the agency, and/or other NHTSA activities. NHTSA will give a brief overview of the plan, and then interested organizations will be provided 10 minutes to present comments to the agency. Alternately, organizations and individuals may provide comments to the docket.

DATES: The listening session will be held on February 24, 2014, from 8:30 a.m.-5:00 p.m., EDT. If all participants have had an opportunity to comment, the session may conclude earlier. Pre-registration is required for in-person participation. Register by emailing your name, organization and contact information to nhtsa_strategic_plan@dot.gov by February 19, 2014. Written comments must be submitted by February 24, 2014.

ADDRESSES: The listening session will be held at the U. S. Department of Transportation, 1200 New Jersey Avenue SE., Washington, DC 20590. In addition to attending the session in person, the Agency offers several ways to provide comments as enumerated below. You may submit comments bearing the Federal Docket Management System Docket ID NHTSA-2014-0014 using any of the following methods:

• Federal eRulemaking Portal: Go to http://www.regulations.gov. Follow the online instructions for submitting comments.

• Mail: Send comments to: Docket Management Facility, U.S. Department of Transportation, 1200 New Jersey Avenue SE., West Building, Room W12-140, Washington, DC 20590.

• Fax: Written comments may be faxed to (202) 366-2106

• Hand Delivery: If you plan to submit written comments by hand or courier, please do so at 1200 New Jersey Avenue SE., West Building Ground Floor, Room W12-140, Washington, DC between 9 a.m. and 5 p.m. Eastern Time, Monday through Friday, except federal holidays.

Whichever way you submit your comments, please remember to mention the agency and the docket number of this document within your correspondence. Please note that all comments received will be posted without change to http://www.regulations.gov, including any personal information provided. Please see the “Privacy Act” heading below.

Privacy Act: Anyone is able to search the electronic form of all comments received into any of our dockets by the name of the individual submitting the comments (or signing the comments, if submitted on behalf of an association, business, labor union, etc.). You may review DOT's complete Privacy Act statement in the Federal Register published on April 11, 2000 (65 FR 19477-78) or you may visit http://DocketInfo.dot.gov.

FOR FURTHER INFORMATION CONTACT: For information concerning the listening session, please contact Melanie O'Donnell, Office of Governmental Affairs, Policy, and Strategic Planning, NHTSA (telephone: 202-366-0689 or email: melanie.odonnell@dot.gov). Register by emailing your name, organization and contact information to nhtsa_strategic_plan@dot.gov by February 19, 2014.

If you need sign language assistance to participate in this listening session, contact Ms. O'Donnell by February 17, 2014, to allow us to arrange for such services. NHTSA cannot guarantee that interpreter services requested on short notice will be provided.

SUPPLEMENTARY INFORMATION: NHTSA requests comments, suggestions and recommendations that will assist the agency in assessing and understanding the potential effects and implications that changes in demographic, economic, environmental, institutional, and technological factors will have on motor vehicle and highway traffic safety. The agency is particularly interested in learning about emerging or potential safety problems, gaps in current strategies and approaches, and in receiving recommendations for addressing traffic safety problems effectively. NHTSA will consider all comments received but may not necessarily include all comments into the strategic plan due to inconsistency with NHTSA's mission, budget constraints, and data driven priority areas.

I. Background

NHTSA was established as the successor to the National Highway Safety Bureau in 1970, to carry out safety programs under the National Traffic and Motor Vehicle Safety Act of 1966 (Chapter 301 of Title 49, United States Code) and the Highway Safety Act of 1966 (Chapter 4 of Title 23, United States Code). The agency also administers consumer programs established by the Motor Vehicle Information and Cost Saving Act of 1972 (Part C of Subtitle VI (Chapters 321, 323, 325, 327, 329 and 331) of Title 49, United States Code). NHTSA's mission is to save lives, prevent injuries, and reduce traffic-related health care and other economic costs due to road traffic crashes through education, research, safety standards, and enforcement activity.

In order to address these public health issues and economic costs of highway crashes, the agency seeks to improve public health by helping to make highway travel safer. The agency develops, promotes and implements educational, regulatory, enforcement and emergency medical service programs aimed at ending preventable tragedies and reducing the economic costs associated with motor vehicle use and highway travel. A multi-disciplinary approach that draws upon diverse fields such as epidemiology, engineering, biomechanics, emergency medicine, the social sciences, human factors, economics, education, law enforcement, and communication science to address one of the most complex and challenging public health problems facing our society.

NHTSA is a leader in collecting and analyzing motor vehicle crash data, in conducting research, and in developing countermeasures designed to prevent and mitigate vehicle crashes, thereby reducing associated fatalities and traumatic injury. The agency improves traffic safety through its regulation and enforcement of motor vehicle and motor vehicle equipment; develops evidence-based education and enforcement programs and promotes their use by States, localities, and other safety partners; sponsors critical research; conducts innovative projects to improve traffic and motor vehicle safety; provides leadership in understanding and assessing the safety impact of advanced technologies; and, works to develop harmonized international safety standards. All aspects of engineering, education, enforcement and evaluation are incorporated into programs to address the challenges of crash and injury prevention involving people, vehicles, and the roadway environment.

II. Meeting Participation and Information NHTSA Seeks From the Public

The listening session is open to the public. NHTSA will open the meeting by providing a brief presentation on the current status of the strategic plan. Speakers' remarks will be limited to 10 minutes each. Pre-registration is required for in-person participation. Register by emailing your name, organization and contact information to nhtsa_strategic_plan@dot.gov by February 19, 2014. For questions contact Melanie O'Donnell at melanie.odonnell@dot.gov or 202-366-0689. In-person participants need to bring photo identification and should plan to arrive 45 minutes before the session starts to allow time to clear building security. The public may submit material to the NHTSA staff at the session for inclusion in the public docket, NHTSA-2014-0014.

Chan Lieu,
Director, Office of Governmental Affairs, Policy and Strategic Planning.

[FR Doc. 2014-02241 Filed 2-3-14; 8:45 am]

BILLING CODE 4910-59-P